DEPARTMENT OF AGRICULTURE

Forest Service

Boundary Description and Final Map for Skagit Wild and Scenic River, Mt. Baker-Snoqualmie National Forest, Washington

AGENCY: Forest Service, USDA.

ACTION: Notice of availability.

SUMMARY: In accordance with section 3(b) of the Wild and Scenic Rivers Act, the USDA Forest Service, Washington Office, transmitted the final map and perimeter boundary description of the Skagit Wild and Scenic River to Congress.

DATES: The boundaries and classification of the Skagit Wild and Scenic River shall not become effective until ninety (90) days after they have been forwarded to the President of the Senate and the Speaker of the House of Representatives. In accordance with Section 3(b) of the Wild and Scenic Rivers Act (82 Stat. 906 as amended; 16 U.S.C. 1274), the detailed perimeter boundary description and final map were forwarded on July 21, 2016.

ADDRESSES: Documents may be viewed at USDA Forest Service, Yates Federal Building, 201 14th Street SW., Washington, DC 20250; at the Supervisors Office of the Mt. Baker-Snoqualmie National Forest, 2930 Wetmore Ave., Suite 3A, Everett, WA 98201; and at the USDA Forest Service Region 6 Regional Office at 1220 SW. 3rd Ave., Portland, OR 97204.

FOR FURTHER INFORMATION CONTACT: Information may be obtained by contacting the following office: Mt. Baker-Snoqualmie National Forest, 2930 Wetmore Ave., Suite 3A, Everett, WA 98201, 425-783-6000, stellaitorres@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The Skagit Wild and Scenic River boundary is available for review at the following offices: USDA Forest Service, Wilderness and Wild and Scenic Rivers, 1601 N. Kent Street, Plaza C, Suite 4110B, Rosslyn, VA 22209; USDA Forest Service Pacific Northwest Region, 1220 SW. Third Avenue, Portland, OR 97204.

The Skagit Wild and Scenic River was added to the National Wild and Scenic Rivers System (Pub. L. 95-625) on November 10, 1978. As specified by law, the boundary will not be effective until ninety (90) days after Congress receives the transmittal.

Dated: September 28, 2016.
Dianne C. Guidry,
Deputy Regional Forester.

[FR Doc. 2016-24464 Filed 10-7-16; 8:45 am]

BILLING CODE 3410-11-P